DEPARTMENT OF HOUSING AND URBAN DEVELOPMENT

[Docket No. FR-4786-N-02]

Notice To Further Extend Availability of Revised Public Housing Occupancy Guidebook and Period for Comments

AGENCY: Office of the Assistant Secretary for Public and Indian Housing, HUD.

ACTION: Notice of extension of availability and request for comments.

SUMMARY: This notice advises the public that HUD is extending the comment period for the revised Public Housing Occupancy Guidebook (Occupancy Guidebook) and making available a copy of the draft, revised Occupancy Guidebook on the HUD website and inviting interested parties to comment or provide additional comments on HUD's revised Occupancy Guidebook.

ADDRESSES: A copy of HUD's revised Occupancy Guidebook can be obtained via the World Wide Web at http://www.hud.gov/offices/pih or by calling the Public and Indian Housing Resource Center at 1-800-955-2232. Interested persons may also submit comments regarding this Notice to the attention of Public Housing Occupancy Guidebook Comments, Department of Housing and Urban Development, Office of Public and Indian Housing, Room 4224, 451 Seventh Street, SW., Washington, DC 20410. Communications should refer to the above docket number and title. Comments may also be submitted by email to: occupancy_guidebook_comments@hud.gov.

FOR FURTHER INFORMATION CONTACT: Patricia Arnaudo, Director, Customer Services and Amenities Division, 451 Seventh Street, SW, Washington, DC 20410-2000; telephone number (202) 708-0744 ext. 4250. A telecommunications device (TDD) for hearing and speech-impaired persons is available at (202) 708-0455. (These are not toll-free numbers.)

SUPPLEMENTARY INFORMATION: On August 30, 2002, HUD published a notice (67 FR 55861) that announced the availability of the revised Public Housing Occupancy Guidebook (Occupancy Guidebook) on HUD's website for review and comment. In view of the widespread use of the Occupancy Guidebook and its importance to public housing residents and PHA staff, HUD has decided to further extend the comment period until October 15, 2002 so that all stakeholders will have a greater opportunity to participate and express their viewpoints.

Copies of HUD's draft, revised Occupancy Guidebook will be available until October 15, 2002 at the HUD web site http://www.hud.gov/offices/pih. Members of the public without access to the World Wide Web may obtain a copy of the revised Occupancy Guidebook by contacting the Public and Indian Housing Resource Center at 1-800-955-2232.

Public input is solicited on the overall scope and direction of the revised Occupancy Guidebook. Interested members of the public may submit comments, or submit additional comments, either electronically or by overnight mail to the addresses listed in the Addresses section above. To be most helpful, comments must be identified by specific page and paragraph references and must be received by October 15, 2002.

Dated: September 27, 2002.
Aaron Santa Anna,
Assistant General Counsel for Regulations.

[FR Doc. 02-25095 Filed 10-2-02; 8:45 am]

BILLING CODE 4210-33-P